DEPARTMENT OF TRANSPORTATION

Saint Lawrence Seaway Development Corporation

33 CFR Part 402

[Docket No. SLSDC 2006-26584]

RIN 2135-AA25

Tariff of Tolls

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges levied by the SLSMC in Canada starting in the 2007 navigation season, which are effective only in Canada. An amendment to increase the minimum charge per lock for those vessels that are not pleasure craft or subject in Canada to tolls under items 1 and 2 of the Tariff for full or partial transit of the Seaway will apply in the U.S. Also, the SLSDC is proposing to change the toll charged per pleasure craft using the U.S. locks from $25 U.S. or $30 Canadian to $30 U.S. or $30 Canadian. Several minor editorial corrections are being made in section 402.3, “Interpretation.” and section 402.6, “Description and weight of cargo.” (See SUPPLEMENTARY INFORMATION.)

DATES: Any party wishing to present views on the proposed amendment may file comments with the Corporation on or before January 19, 2007.

ADDRESSES: You may submit comments [identified by DOT DMS Docket Number SLSDC 2006-26584] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Craig H. Middlebrook, Acting Chief Counsel, Saint Lawrence Seaway Development Corporation, 400 Seventh Street, SW., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Tariff of Tolls (Schedule of Fees and Charges in Canada) in their respective jurisdictions.

The Tariff sets forth the level of tolls assessed on all commodities and vessels transiting the facilities operated by the SLSDC and the SLSMC. The SLSDC is proposing to revise 33 CFR 402.8, “Schedule of tolls”, to reflect the fees and charges levied by the SLSMC in Canada beginning in the 2007 navigation season. With one exception, the changes affect the tolls for commercial vessels and are applicable only in Canada. The collection of tolls by the SLSDC on commercial vessels transiting the U.S. locks is waived by law (33 U.S.C. 988a(a)). Accordingly, no notice or comment is necessary on these amendments.

The SLSDC is proposing to amend 33 CFR 402.8, “Schedule of tolls”, to increase the minimum charge per vessel per lock for full or partial transit of the Seaway from $20.40 to $25.00. This charge is for vessels that are not pleasure craft or subject in Canada to the tolls under items 1 and 2 of the Tariff. This increase is due to higher operating costs at the locks.

The SLSDC is proposing to modify its practice regarding the collection of pleasure craft tolls by allowing pleasure craft operators to pay the toll for transiting the U.S. locks, Eisenhower and Snell, in either $30 U.S. or $30 Canadian. Currently the toll is payable in $25 U.S. or $30 Canadian, however this has resulted in confusion to pleasure craft operators when transiting both Canadian and U.S. locks. With almost eighty (80) percent of the tolls for pleasure crafts being paid in Canadian dollars and little disparity between the U.S. and Canadian exchange rates, the SLSDC is streamlining the pleasure craft toll collection process by allowing for payment in either $30 U.S. or $30 Canadian. Additionally, the SLSDC is proposing to make several minor editorial changes to 33 CFR 402.3 and 33 CFR 402.5

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Regulatory Evaluation

This proposed regulation involves a foreign affairs function of the United States and therefore Executive Order 12866 does not apply and evaluation under the Department of Transportation's Regulatory Policies and Procedures is not required.

Regulatory Flexibility Act Determination

I certify this proposed regulation will not have a significant economic impact on a substantial number of small entities. The St. Lawrence Seaway Tariff of Tolls primarily relate to commercial users of the Seaway, the vast majority of whom are foreign vessel operators. Therefore, any resulting costs will be borne mostly by foreign vessels.

Environmental Impact

This proposed regulation does not require an environmental impact statement under the National Environmental Policy Act (49 U.S.C. 4321, et seq.) because it is not a major federal action significantly affecting the quality of the human environment.

Federalism

The Corporation has analyzed this proposed rule under the principles and criteria in Executive Order 13132, dated August 4, 1999, and has determined that this proposal does not have sufficient federalism implications to warrant a federalism assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 402

Vessels, Waterways.

Accordingly, the Saint Lawrence Seaway Development Corporation proposes to amend 33 CFR part 402, Tariff of Tolls, as follows:

PART 402—TARIFF OF TOLLS

1. The authority citation for part 402 continues to read as follows:

Authority: 33 U.S.C. 983(a), 984(a)(4) and 988, as amended; 49 CFR 1.52.

2. Section 402.3 is amended by revising paragraphs (a)(5), (b)(1), and (f) to read as follows

§ 402.3 Interpretation.

* * * * *

(a) * * *

(5) Ores and minerals (crude, screened, sized or concentrated, but not otherwise processed) loose or in sacks, including alumina, bauxite, gravel, phosphate rock, sand, stone and sulphur;

* * * * *

(b) * * *

(1) Empty containers or the tare weight of loaded containers;

* * * * *

(f) General cargo means goods other than bulk cargo, grain, government aid cargo, steel slabs and coal.

* * * * *

3. Section 402.5 is amended by revising paragraph (b) to read as follows:

§ 402.5 Description and weight of cargo.

(b) The cargo tonnage shall be rounded to the nearest 1,000 kilograms (2,204.62 pounds.)

4. Section 402.8 is revised to read as follows:

§ 402.8 Schedule of tolls.

Item | Column 1: Description of charges | Column 2: Rate ($) Montreal to or from Lake Ontario (5 locks) | Column 3: Rate ($) Welland Canal—Lake Ontario to or from Lake Erie (8 locks)
1. | Subject to item 3, for complete transit of the Seaway, a composite toll, comprising:
| (1) a charge per gross registered ton of the ship, applicable whether the ship is wholly or partially laden, or is in ballast, and the gross registered tonnage being calculated according to prescribed rules for measurement or under the International Convention on Tonnage Measurement of Ships, 1969, as amended from time to time | 0.0966 | 0.1568
| (2) a charge per metric ton of cargo as certified on the ship's manifest or other document, as follows:
| (a) bulk cargo | 1.0012 | 0.6634
| (b) general cargo | 2.4124 | 1.0616
| (c) steel slab | 2.1833 | 0.7600
| (d) containerized cargo | 1.0012 | 0.6634
| (e) government aid cargo | n/a | n/a
| (f) grain | 0.6151 | 0.6634
| (g) coal | 0.5911 | 0.6634
| (3) a charge per passenger per lock | 1.4233 | 1.4233
| (4) a charge per lock for transit of the Welland Canal in either direction by cargo ships:
| (a) loaded | n/a | 529.79
| (b) in ballast | n/a | 391.43
2. | Subject to item 3, for partial transit of the Seaway | 20 percent perlock of the applicable charge under items 1(1) and (2) plus the applicable charge under items 1(3) and (4) | 13 percent per lock of the applicable charge under items 1(1) and (2) plus the applicable charge under items 1(3) and (4).
3. | Minimum charge per ship per lock transited for full or partial transit of the Seaway | 25.00 | 25.00
4. | A rebate applicable to the rates of item 1 to 3 | n/a | n/a
5. | A charge per pleasure craft per lock transited for full or partial transit of the Seaway, including applicable federal taxes ¹ | 25.00 | 25.00
6. | Subject to item 3, in lieu of item 1(4), for vessel carrying new cargo on the Welland Canal or returning ballast after carrying new cargo on the Welland Canal, a charge per gross registered ton of the ship, the gross registered tonnage being calculated according to item 1(1):
| (a) loaded | n/a | 0.1561
| (b) in ballast | n/a | 0.1144
7. | Subject to item 3, in lieu of item 1(1), for vessel carrying new cargo on the MLO section or returning ballast after carrying new cargo on the MLO Section, a charge per gross registered ton of the ship, the gross registered tonnage being calculated according to item 1(1) | 0.0000 | n/a
¹ The applicable charge at the Saint Lawrence Seaway Development Corporation's locks (Eisenhower, Snell) for pleasure craft is $30 U.S. or $30 Canadian per lock. The applicable charge under item 3 at the Saint Lawrence Seaway Development Corporation's locks (Eisenhower, Snell) will be collected in U.S. dollars. The other amounts are in Canadian dollars and are for the Canadian Share of tolls. The collection of the U.S. portion of tolls for commercial vessels is waived by law (33 U.S.C. 988a(a)).

Issued at Washington, DC, on December 11, 2006.
Saint Lawrence Seaway Development Corporation.
Collister Johnson, Jr.,
Administrator.

[FR Doc. E6-21743 Filed 12-19-06; 8:45 am]

BILLING CODE 4910-61-P